DEPARTMENT OF AGRICULTURE

Natural Resources Conservation Service

Notice of Proposed Changes to Section IV of the Field Office Technical Guide (FOTG) of the Natural Resources Conservation Service in Georgia

AGENCY: Natural Resources Conservation Service (NRCS) in Georgia, U.S. Department of Agriculture.

ACTION: Notice of availability of proposed changes in section IV of the FOTG of the NRCS in Georgia for review and comment.

SUMMARY: It is the intention of NRCS in Georgia to issue interim and revised conservation practice standards in Section IV of the FOTG. The revised standards are Nutrient Management (590); Waste Utilization (633); Waste Treatment Lagoon (359); Waste Storage Structure (313); Manure Transfer (634); Closure of Waste Impoundments (360). The interim conservation practice standard being added to Section IV of the FOTG are Waste Field Storage (749); Incinerator (769); and Animal Mortality Freezers (774).

DATES: Comments will be received until April 13, 2001.

FOR FURTHER INFORMATION CONTACT: Address all requests and comments to Earl Cosby, State Conservationist, Natural Resources Conservation Service (NRCS); Stephens Federal Building, MS 200; 355 E. Hancock Ave., Athens, Georgia, 30601. Copies of these standards will be made available upon written request. You may submit your electronic requests and comments to vernon.jones@ga.usda.gov.

SUPPLEMENTARY INFORMATION: Section 343 of the Federal Agriculture Improvement and Reform Act of 1996 states that after enactment of the law, revisions made to NRCS state technical guides used to carry out highly erodible land and wetland provisions of the law, shall be made available for public review and comment. For the next 30 days, the NRCS in Georgia will receive comments relative to the proposed changes. Following that period, a determination will be made by the NRCS in Georgia regarding disposition of these comments and a final determination of changes will be made.

Dated: February 5, 2001.
Richard Oliver,
Assistant State Conservationist, Athens, Ga.

[FR Doc. 01-6365 Filed 3-13-01; 8:45 am]

BILLING CODE 3410-16-P